DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

American Association of Private Railroad Car Owners, Inc. (Docket Number FRA-2003-15340)

The American Association of Private Railroad Car Owners, Inc. (AAPRCO) seeks a waiver of compliance from certain provisions of 49 CFR part 238, Passenger Equipment Safety Standards. Specifically, § 238.231(m)(2), which specifies that “up to two cars may be operated in direct release mode when the rest of the cars in the train are operated in graduated release mode, provided that the cars operated in direct release mode are hauled at the rear of the train consist.” AAPRCO requests that a waiver be granted to modify the requirements of § 238.231(m)(2), to read as follows: “up to two cars may be operated in direct release mode when the rest of the cars in the train are operated in graduated release mode.” Thereby, eliminating the placement restrictions of the direct release cars to the rear of the train.

Approximately 50 private cars are equipped with an ABD type brake that can only operate in direct release mode. AAPRCO states that these types of cars have operated in Amtrak service for at least ten years without incident. Until recently, these cars have been placed anywhere in the Amtrak trains, although Amtrak has not allowed placement of two such cars adjacent to one another. They are usually separated by at least one car operating in graduated release brake mode.

The requirement of the placement of all such cars at the rear of the train has resulted in Amtrak's refusal to handle such cars on all graduated release mode trains where extra switching is required. This has reduced revenue to Amtrak and the inability of private cars to operate to certain locations. AAPRCO knows of no technical reason why the direct release mode car has to be placed at the rear of a graduated release mode train. The Talgo train, which supports the only gateway between Seattle, Washington and Vancouver, B.C., has to have the private car next to the locomotive. Otherwise, AAPRCO contends that Amtrak does not support the need to place such cars in any particular location in the train. AAPRCO states that if this waiver is granted, it would allow flexibility in the make-up of the train, thereby making more trains and locations available for use by the Private Cars.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2003-15340) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.) You may review DOT's complete Privacy Act Statement in the Federal Register published on April 11, 2000 (Volume 65, Number 70; Pages 19477-78). The Statement may also be found at http://dms.dot.gov.

Issued in Washington, DC, on June 19, 2003.
Grady C. Cothen, Jr.,
Deputy Associate Administrator for Safety Standards and Program Development.

[FR Doc. 03-16367 Filed 6-27-03; 8:45 am]

BILLING CODE 4910-06-P